DEPARTMENT OF ENERGY

Federal Energy Regulatory Commission

Notice of FERC Staff Participation in Meeting of California Independent System Operator Corporation

October 4, 2004.

The Federal Energy Regulatory Commission hereby gives notice that members of its staff may participate in the October 7, 2004 stakeholder meeting of the California Independent System Operator Corporation (CAISO) to discuss current proposals for the market power mitigation under the Market Design and Technology Upgrade Program in light of the California Public Utilities Commission's Draft Order on Resource Adequacy.

The discussion may address matters at issue in the following proceeding:

Docket Nos. ER02-1656-000 and ER02-1656-019, California Independent System Operator Corporation.

The meeting will take place on October 7, 2004 and is expected to begin at approximately 10 a.m. (PDT). The meeting will take place at the CAISO's facilities in Folsom, CA. The meeting is open to the public.

For more information, contact Olga Kolotushkina, Office of General Counsel, Federal Energy Regulatory Commission at (202) 502-6024 or olga.kolotushkina@ferc.gov.

Magalie R. Salas,
Secretary.

[FR Doc. E4-2584 Filed 10-12-04; 8:45 am]

BILLING CODE 6717-01-P